DEPARTMENT OF TRANSPORTATION

Federal Aviation Administration

Thirty Ninth RTCA SC-216 Aeronautical Systems Security Plenary

AGENCY: Federal Aviation Administration (FAA), U.S. Department of Transportation (DOT).

ACTION: Thirty Ninth RTCA SC-216 Aeronautical Systems Security Plenary.

SUMMARY: The FAA is issuing this notice to advise the public of a meeting of Thirty Ninth RTCA SC-216 Aeronautical Systems Security Plenary.

DATES: The meeting will be held April 09-13, 2018 9:00 a.m.-5:00 p.m.

ADDRESSES: The meeting will be held at: RTCA Headquarters, 1150 18th Street NW, Suite 910, Washington, DC 20036.

FOR FURTHER INFORMATION CONTACT: Karan Hofmann at khofmann@rtca.org or 202-330-0680, or The RTCA Secretariat, 1150 18th Street NW, Suite 910, Washington, DC 20036, or by telephone at (202) 833-9339, fax at (202) 833-9434, or website at http://www.rtca.org.

SUPPLEMENTARY INFORMATION: Pursuant to section 10(a) (2) of the Federal Advisory Committee Act (Pub. L. 92-463, 5 U.S.C., App.), notice is hereby given for a meeting of the Thirty Ninth RTCA SC-216 Aeronautical Systems Security Plenary.

The agenda will include the following:

1. Welcome and Administrative Remarks

2. Introductions

3. Agenda Review

4. Meeting-Minutes Review

5. Review Joint Action List

6. Review/Resolution of DO-356A/ED-203A Final Review and Comment(Frac)/Open Consultation Comments

7. Decision to Approve Release of DO-356A/Ed-203A for Presentation to Program Management Committee/Council for Publication

8. Schedule Update

9. Potential Future Joint Activities

10. Date, Place and Time of Next Meeting

11. New Business

12. Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on March 13, 2018.
Michelle Swearingen,
Systems and Equipment Standards Branch, AIR-6B0, Policy and Innovation Division, AIR-600, Federal Aviation Administration.

[FR Doc. 2018-05344 Filed 3-15-18; 8:45 am]

BILLING CODE 4910-13-P